DEPARTMENT OF COMMERCE

International Trade Administration

[A-570-827]

Certain Cased Pencils From the People's Republic of China; Final Results and Partial Rescission of Antidumping Duty Administrative Review

AGENCY: Import Administration, International Trade Administration, Department of Commerce.

ACTION: Notice of final results and partial rescission of antidumping duty administrative review.

SUMMARY: On January 9, 2001, the Department of Commerce (the Department) published the preliminary results of the administrative review of the antidumping duty order on certain cased pencils (pencils) from the People's Republic of China (PRC). See Notice of Preliminary Results of Antidumping Duty Administrative Review: Certain Cased Pencils from the People's Republic of China, 66 FR 1638 (January 9, 2001). This review covers a manufacturer/exporter of the subject merchandise (China First Pencil Co., Ltd.) and a manufacturer of the subject merchandise (Three Star Stationary Co., Ltd.). In its March 16, 2000, response to the Department's questionnaire, Three Star stated that it did not export pencils to the United States during the POR. In addition, as described in the preliminary results, we rescinded the review for one respondent and did not receive questionnaire responses from 30 named respondents. The period of review (POR) is December 1, 1998, through November 30, 1999.

Based on our analysis of the comments received, our final results remain unchanged from the preliminary results.

EFFECTIVE DATE: July 19, 2001.

FOR FURTHER INFORMATION CONTACT: Paul Stolz, Office of AD/CVD Enforcement, Office 4, Group II, Import Administration, International Trade Administration, U.S. Department of Commerce, 14th Street and Constitution Avenue, NW, Washington, DC 20230; telephone (202) 482-4474.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (2000).

Background

On January 9, 2001, the Department published in the Federal Register the preliminary results of the administrative review of the antidumping duty order on pencils from the PRC. See Notice of Preliminary Results and Rescission in Part of Antidumping Duty Administrative Review of Certain Cased Pencils from the People's Republic of China, 66 FR 1638 (January 9, 2001).

China First Pencil Co., Ltd. (CFP) and Three Star Stationary Co., Ltd. (Three Star) (respondents), and the Pencil Section of the Writing Instrument Manufacturers Association, Sanford Corporation, Dixon-Ticonderoga Corporation, Tennessee Pencil Company, Musgrave Pencil Company, Moon Products, Inc., General Pencil Company, and Aakron Rule, Inc., (petitioners) filed case briefs on March 2, 2001 and rebuttal briefs on March 14, and 15, 2001 respectively. Rose Art Industries, Inc., a U.S. importer of the subject merchandise during the POR, filed a case brief on March 1, 2001.

The Department has conducted this administrative review in accordance with section 751 of the Act.

Scope of Review

Imports covered by this review are shipments of certain cased pencils of any shape or dimension which are writing and/or drawing instruments that feature cores of graphite or other materials, encased in wood and/or man-made materials, whether or not decorated and whether or not tipped (e.g., with erasers, etc.) in any fashion, and either sharpened or unsharpened. The pencils subject to this investigation are classified under subheading 9609.10.00 of the Harmonized Tariff Schedules of the United States (“HTSUS”). Specifically excluded from the scope of this investigation are mechanical pencils, cosmetic pencils, pens, non-cased crayons (wax), pastels, charcoals, and chalks.

Although the HTSUS subheading is provided for convenience and customs purposes our written description of the scope of the order is dispositive.

Final Partial Rescission

We are rescinding this review with respect to Three Star because the Department verified that Three Star did not export pencils to the United States during the POR.

Period of Review

The POR is December 1, 1998 to November 30, 1999.

Analysis of Comments Received

All issues raised in the case and rebuttal briefs by parties to this administrative review are addressed in the “Issues and Decision Memorandum” (“Decision Memorandum”) from Bernard T. Carreau, Deputy Assistant Secretary, Important Administration, to Faryar Shirzad, Assistant Secretary for Import Administration, dated concurrently with this notice, which is hereby adopted by this notice. A list of the issues which parties have raised and to which we have responded, all of which are in the Decision Memorandum, is attached to this notice as an Appendix. Parties can find a complete discussion of all issues raised in this review and the corresponding recommendations in this public memorandum which is on file in the Central Record Unit, room B-099 of the main Department of Commerce building. In addition, a complete version of the Decision Memorandum can be accessed directly on the International Trade Administration's Web site at www.ia.ita.doc.gov. The paper copy and electronic version of the Decision Memorandum are identical in content.

Changes Since the Preliminary Results

Based on our analysis of comments received, we have made no changes to our preliminary results.

Final Results of Review

We determine that the following weighted-average percentage margin exists for the period December 1, 1998 through November 30, 1999:

Exporter/manufacturer | Margin (percent)
China First Pencil Co., Ltd | 53.65
PRC Wide-Rate | 53.65

Cash Deposit Requirements

The following deposit requirements will be effective upon publication of this notice of final results of administrative review for all shipments of pencils from the PRC entered, or withdrawn from warehouse, for consumption on or after the date of publication, as provided by section 751(a)(1) of the Act: (1) The cash deposit rates for the reviewed companies will be the rates shown above; (2) for previously reviewed or investigated companies not listed above that have separate rates, the cash deposit rate will continue to be the company-specific rate published for the most recent period; (3) the cash deposit rate for all other PRC exporters will continue to be 53.65 percent; and (4) the cash-deposit rate for non-PRC exporters will be the rate applicable to the PRC supplier of that exporter.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APOs”) of their responsibility concerning the return or destruction of proprietary information disclosed under an APO in accordance with 19 CFR 351.305 or conversion to judicial protective order is hereby requested. Failure to comply with the regulations and terms of an APO is a violation which is subject to sanction.

We are issuing and publishing this determination and notice in accordance with sections section 751(a)(1) and 771(i) of the Act.

Dated: July 9, 2001.
Faryar Shirzad,
Assistant Secretary for Import Administration.

Appendix—Issues in Decision Memorandum

Comments

1. Whether the Department Should Continue to Base the Dumping Margin on Total Adverse Facts Available.

2. Whether China First Pencil Co., Ltd. (CFP) and Three Star Stationery Industry Co., Ltd. (Three Star) Should be Treated as a Single Entity for Antidumping Purposes.

3. Whether to Calculate a Dumping Margin for Sales to the U.S. Importer, Rose Art Industries, Inc. (Rose Art), regardless of whether adverse facts available are applied to all other sales.

4. Whether to Use American Basswood Prices or Indonesian Slat Prices to Value Chinese Lindenwood.

5. Whether to Use Sales Commissions and Bank Charges in Calculating a Dumping Margin.

6. Whether to Use Indonesian Surrogate Values to Calculate the Dumping Margin.

[FR Doc. 01-18119 Filed 7-18-01; 8:45 am]

BILLING CODE 3510-DS-P